DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping and countervailing duty orders and findings with January anniversary dates. In accordance with Commerce's regulations, we are initiating those administrative reviews.

DATES: Applicable April 1, 2019.

FOR FURTHER INFORMATION CONTACT: Brenda E. Brown, Office of AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various antidumping and countervailing duty orders and findings with January anniversary dates. With respect to the antidumping duty and countervailing duty orders on certain softwood lumber from Canada, the intiation of the antidumping duty and countervailing duty administrative reviews for these orders will be published in a separate initiation notice.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at http://access.trade.gov in accordance with 19 CFR 351.303.¹ Such submissions are subject to verification in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, except for the administrative review of the antidumping duty order on wooden bedroom furniture from the People's Republic of China (China), Commerce intends to select respondents based on U.S. Customs and Border Protection (CBP) data for U.S. imports during the period of review. We intend to place the CBP data on the record within five days of publication of the initiation notice and to make our decision regarding respondent selection within 30 days of publication of the initiation Federal Register notice. Comments regarding the CBP data and respondent selection should be submitted seven days after the placement of the CBP data on the record of this review. Parties wishing to submit rebuttal comments should submit those comments five days after the deadline for the initial comments.

In the event Commerce decides it is necessary to limit individual examination of respondents and conduct respondent selection under section 777A(c)(2) of the Act:

In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this antidumping proceeding (e.g., investigation, administrative review, new shipper review or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general each company must report volume and value data separately for itself. Parties should not include data for any other party, even if they believe they should be treated as a single entity with that other party. If a company was collapsed with another company or companies in the most recently completed segment of this proceeding where Commerce considered collapsing that entity, complete Q&V data for that collapsed entity must be submitted.

Respondent Selection—Wooden Bedroom Furniture From China

In the event that Commerce limits the number of respondents for individual examination in the antidumping duty administrative review of wooden bedroom furniture from China, for the purposes of this segment of the proceeding, i.e., the 2018 review period, Commerce intends to select respondents based on volume data contained in responses to a Q&V questionnaire. All parties are hereby notified that they must timely respond to the Q&V questionnaire. Commerce's Q&V questionnaire along with certain additional questions will be available in a document package on Commerce's website at https://enforcement.trade.gov/download/prc-wbf/index.html on the date this notice is published. The responses to the Q&V questionnaire should be filed with the respondents' Separate Rate Application or Separate Rate Certification (see the Separate Rates section below) and their response to the additional questions and must be received by Commerce by no later than 30 days after publication of this notice. Please be advised that due to the time constraints imposed by the statutory and regulatory deadlines for antidumping duty administrative reviews, Commerce does not intend to grant any extensions for the submission of responses to the Q&V questionnaire.

Welded Line Pipe From Korea—Correction to December Initiation Notice

In the March 14, 2019, notice of initiation of the administrative review of the antidumping duty order on welded line pipe from Korea covering the period 12/01/2017-11/30/2018,² we inadvertently initiated on the following companies: BDP International, Inc. and Kelly Pipe Co., LLC. We note that the addresses provided for these companies are in the United States. Therefore, absent evidence that these companies produced and/or exported subject merchandise, they are not included in this review.

² See 84 FR 9297.

Welded Line Pipe From Turkey—Correction to December Initiation Notice

In the March 14, 2019, notice of initiation of the administrative review of the antidumping duty order on welded line pipe from Turkey covering the period 12/01/2017-11/30/2018,³ Cayirova Boru Sanayi ve Ticaret A.S. was misspelled.

³ See id.

Circular Welded Carbon-Quality Steel Pipe From the United Arab Emirates—Correction to December Initiation Notice

In the March 14, 2019, notice of initiation of the administrative review of the antidumping duty order on circular welded carbon-quality steel pipe from the United Arab Emirates covering the period 12/01/2017-11/30/2018,⁴ we inadvertently initiated on the following companies: Al Jazeera Steel Products Co. SAOG (Al Jazeera), Prime Metal Corp. USA, and UTP Pipe Corp. USA. Although domestic interested parties requested a review of these companies, Al Jazeera notified Commerce that it is located in the Sultanate of Oman and is an Omani producer and exporter of certain welded carbon steel pipe, and the addresses provided for Prime Metal Corp. USA, and UTP Pipe Corp. USA are in the United States. Therefore, absent evidence that these companies produced and/or exported subject merchandise, we are not including them in this review. Further, Conares Metal Supply Ltd. was misspelled. Finally, we inadvertently did not list K.D. Industries Inc.

⁴ See id.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of particular market situation (PMS) for purposes of constructed value under section 773(e) of the Act.⁵ Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(v). If Commerce finds that a PMS exists under section 773(e) of the Act, then it will modify its dumping calculations appropriately.

⁵ See Trade Preferences Extension Act of 2015, Public Law 114-27, 129 Stat. 362 (2015).

Neither section 773(e) of the Act nor 19 CFR 351.301(c)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. In addition, all firms that wish to qualify for separate-rate status in the antidumping duty administrative review of wooden bedroom furniture from China must complete, as appropriate, either a separate-rate certification or application, as described below, and respond to the additional questions and the Q&V questionnaire on Commerce's website at https://enforcement.trade.gov/download/prc-wbf/index.html. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at http://enforcement.trade.gov/nme/nme-sep-rate.html on the date of publication of this Federal Register notice. In responding to the certification, please follow the “Instructions for Filing the Certification” in the Separate Rate Certification. Separate Rate Certifications are due to Commerce no later than 30 calendar days after publication of this Federal Register notice. For the antidumping duty administrative review of wooden bedroom furniture from China, Separate Rate Certifications, as well as a response to the Q&V questionnaire and the additional questions in the document package, are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ⁶ should timely file a Separate Rate Application to demonstrate eligibility for a separate rate in this proceeding. In addition, companies that received a separate rate in a completed segment of the proceeding that have subsequently made changes, including, but not limited to, changes to corporate structure, acquisitions of new companies or facilities, or changes to their official company name,⁷ should timely file a Separate Rate Application to demonstrate eligibility for a separate rate in this proceeding. The Separate Rate Status Application will be available on Commerce's website at http://enforcement.trade.gov/nme/nme-sep-rate.html on the date of publication of this Federal Register notice. In responding to the Separate Rate Status Application, refer to the instructions contained in the application. Separate Rate Status Applications are due to Commerce no later than 30 calendar days of publication of this Federal Register notice. For the antidumping duty administrative review of wooden bedroom furniture from China, Separate Rate Status Applications, as well as a response to the Q&V questionnaire and the additional questions in the document package, are due to Commerce no later than 30 calendar days after publication of this Federal Register notice. The deadline and requirement for submitting a Separate Rate Status Application applies equally to NME-owned firms, wholly foreign-owned firms, and foreign sellers that purchase and export subject merchandise to the United States.

⁶ Such entities include entities that have not participated in the proceeding, entities that were preliminarily granted a separate rate in any currently incomplete segment of the proceeding (e.g., an ongoing administrative review, new shipper review, etc.) and entities that lost their separate rate in the most recently completed segment of the proceeding in which they participated.

⁷ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Furthermore, this notice constitutes public notification to all firms for which an antidumping duty administrative review of wooden bedroom furniture from China has been requested, and that are seeking separate rate status in the review, that they must submit a timely separate rate application or certification (as appropriate) as described above, and a timely response to the Q&V questionnaire and the additional questions in the document package on Commerce's website in order to receive consideration for separate-rate status. In other words, Commerce will not give consideration to any timely separate rate certification or application made by parties who failed to respond in a timely manner to the Q&V questionnaire and the additional questions. All information submitted by respondents in the antidumping duty administrative review of wooden bedroom furniture from China is subject to verification. As noted above, the separate rate certification, the separate rate application, the Q&V questionnaire, and the additional questions will be available on Commerce's website on the date of publication of this notice in the Federal Register.

Initiation of Reviews

In accordance with 19 CFR 351.221(c)(1)(i), we are initiating administrative reviews of the following antidumping and countervailing duty orders and findings. We intend to issue the final results of these reviews not later than January 31, 2020.

| Period to be reviewed
Antidumping Duty Proceedings
THAILAND: Prestressed Concrete Steel Wire Strand A-549-820 | 1/1/18-12/31/18
The Siam Industrial Wire Co., Ltd
THE PEOPLE'S REPUBLIC OF CHINA: Hardwood Plywood Products A-570-051 | 6/23/17-12/31/18
Anhui Hoda Wood Co., Ltd
Celtic Co., Ltd
Cosco Star International Co., Ltd
Feixian Longteng Wood Co., Ltd
Golder International Trade Co., Ltd
Happy Wood Industrial Group Co., Ltd
Highland Industries—Hanlin
Huainan Mengping Import and Export Co., Ltd
Jiangsu High Hope Arser Co., Ltd
Jiangsu Sunwell Cabinetry Co., Ltd
Jiangsu Top Point International Co., Ltd
Jiaxing Gsun Imp. & Exp. Co., Ltd
Jiaxing Hengtong Wood Co., Ltd
Lianyungang Yuantai International Trade Co., Ltd
Linyi Bomei Furniture Co., Ltd
Linyi Chengen Import and Export Co., Ltd
Linyi City Dongfang Jinxin Economic and Trade Co., Ltd. (a/k/a Linyi City Dongfang Jinxjin Economicand Trade Co., Ltd.)
Linyi Dahua Wood Co., Ltd
Linyi Evergreen Wood Co., Ltd
Linyi Glary Plywood Co., Ltd
Linyi Hengsheng Wood Industry Co., Ltd
Linyi Huasheng Yongbin Wood Co., Ltd
Linyi Jiahe Wood Industry Co., Ltd
Linyi Linhai Wood Co., Ltd
Linyi Mingzhu Wood Co., Ltd
Linyi Sanfortune Wood Co., Ltd
Pingyi Jinniu Wood Co., Ltd
Qindgao Top P&Q International Corp
Qingdao Good Faith Import and Export Co., Ltd
Qingdao Top P&Q International Corp
SAICG International Trading Co., Ltd
Shandong Dongfang Bayley Wood Co., Ltd
Shandong Jinhua International Trading Co., Ltd
Shandong Jinluda International Trade Co., Ltd
Shandong Qishan International Trading Co., Ltd
Shandong Senmanqi Import & Export Co., Ltd
Shandong Shengdi International Trading Co., Ltd
Shanghai Brightwood Trading Co., Ltd
Shanghai Futuwood Trading Co., Ltd
Shanghai Luli Trading Co., Ltd
Suining Pengxiang Wood Co., Ltd
Sumec International Technology Co., Ltd
Suqian Hopeway International Trade Co., Ltd
Suzhou Fengshuwan Import and Export Trade Co., Ltd. a/k/a Suzhou Fengshuwan I&E Trade Co., Ltd
Suzhou Oriental Dragon Import and Export Co., Ltd
Vietnam Finewood Company Limited
Win Faith Trading Limited
Xuzhou Amish Import & Export Co., Ltd
Xuzhou Andefu Wood Co., Ltd
Xuzhou DNT Commercial Co., Ltd
Xuzhou Jiangheng Wood Products Co., Ltd
Xuzhou Jiangyang Wood Industries Co., Ltd
Xuzhou Longyuan Wood Industry Co., Ltd
XuZhou PinLin International Trade Co., Ltd
Xuzhou Shengping Imp and Exp Co., Ltd
Xuzhou Timber International Trade Co., Ltd
Yishui Zelin Wood Made Co., Ltd
Zhejiang Dehua TB Import & Export Co., Ltd
THE PEOPLE'S REPUBLIC OF CHINA: Multilayered Wood Flooring ⁸ A-570-970 | 12/1/17-11/30/18
Dalian Penghong Floor Products Co., Ltd
Dunhua City Dexin Wood Industry Co., Ltd
Huilong Wooden Products Co., Ltd
Karly Wood Product Limited
Yingyi-Nature (Kunshan) Wood Industry Co., Ltd
THE PEOPLE'S REPUBLIC OF CHINA: Certain Cased Pencils ⁹ A-570-827 | 12/1/17-11/30/18
THE PEOPLE'S REPUBLIC OF CHINA: Potassium Permanganate A-570-001 | 1/1/18-12/31/18
Chongqing Changynan Group Limited
Pacific Accelerator Ltd
THE PEOPLE'S REPUBLIC OF CHINA: Wooden Bedroom Furniture A-570-890 | 1/1/18-12/31/18
Billionworth Enterprises Ltd
Carven Industries Ltd. (BVI)
Carven Industries Ltd. (HK)
Dongguan Chengcheng Group Co., Ltd
Dongguan Fortune Furniture Ltd
Dongguan Mu Si Furniture Co., Ltd
Dongguan Nova Furniture Co., Ltd
Dongguan Singways Furniture Co., Ltd
Dongguan Sunrise Furniture Co
Dongguan Sunrise Furniture Co., Ltd
Dongguan Sunshine Furniture Co., Ltd
Dongguan Yongpeng Furniture Co., Ltd
Dongguan Yujia Furniture Co., Ltd
Dongguan Zhenxin Furniture Co., Ltd
Dongguan Zhisheng Furniture Co., Ltd
Dorbest Ltd
Dream Rooms Furniture (Shanghai) Co. Ltd
Eurosa (Kunshan) Co., Ltd
Eurosa Furniture Co., (PTE) Ltd
Fairmont Designs
Fine Furniture (Shanghai) Ltd
Fleetwood Fine Furniture LP
Fortune Glory Industrial, Ltd. (HK Ltd.)
Fortune Glory Industrial Ltd. (H.K. Ltd.)
Fortune Furniture Ltd
Fujian Lianfu Forestry Co., Ltd. (Aka Fujian Wonder Pacific, Inc.)
Fuzhou Huan Mei Furniture Co., Ltd
Golden Lion International Trading Ltd
Golden Well International (HK), Ltd./Producer: Zhangzhou XYM Furniture Product Co., Ltd
Guangdong New Four Seas Furniture Manufacturing Ltd
Guangdong Yihua Timber Industry Co., Ltd
Guangzhou Lucky Furniture Co., Ltd
Guangzhou Maria Yee Furnishings Ltd
Hang Hai Woodcraft's Art Factory
Hang Hai Woodcrafts Art Factory
Jasonwood Industrial Co., Ltd. S.A
Jiangmen Kinwai International Furniture Co., Ltd
Jiangmen Kinwai Furniture Decoration Co., Ltd
Jiangmen Kinwai Furniture Decoration Co., Ltd
Jiangsu Dare Furniture Co., Ltd
Jiangsu Xiangsheng Bedtime Furniture Co., Ltd
Jiangsu Yuexing Furniture Group Co., Ltd
Jiashan Zhenxuan Furniture Co., Ltd
Jiedong Lehouse Furniture Co., Ltd
Lianjiang Zongyu Art Products Co., Ltd
King's Way Furniture Industries Co., Ltd
Kingsyear, Ltd
Lianjiang Zongyu Art Products Co., Ltd
Meizhou Sunrise Furniture Co., Ltd
Meizhou Sunrise Furniture Co., Ltd
Maria Yee, Inc
Nanhai Jiantai Woodwork Co. Ltd
Nantong Yangzi Furniture Co. Ltd
Nantong Wangzhuang Furniture Co. Ltd
Nathan International Ltd
Nathan Rattan Factory
Perfect Line Furniture Co., Ltd
PuTian JingGong Furniture Co., Ltd
Pyla HK Ltd
Qingdao Beiyuan lndustry Trading Co., Ltd
Qingdao Beiyuan Shengli Furniture Co., Ltd
Rui Feng Woodwork Co., Ltd
Rui Feng Woodwork Co., Ltd. AKA Rui Feng Woodwork (Dongguan) Co., Ltd
Rui Feng Lumber Development Co., Ltd
Rui Feng Lumber Development Co., Ltd. AKA Rui Feng Lumber Development (Shenzhen) Co., Ltd
Shanghai Jian Pu Export & Import Co., Ltd
Shanghai Maoji Imp & Exp Co., Ltd
Shanghai Sunrise Furniture Co., Ltd
Shenyang Shining Dongxing Furniture Co., Ltd
Shenzhen Diamond Furniture Co., Ltd
Shenzhen Forest Furniture Co., Ltd
Shenzhen Jiafa High Grade Furniture Co., Ltd
Shenzhen Jichang Woodproducts Co. Ltd
Shenzhen New Fudu Furniture Co., Ltd
Shenzhen Wonderful Furniture Co., Ltd
Shenzhen Xingli Furniture Co., Ltd
Shin Feng Furniture Co., Ltd
Shing Mark Enterprise Co., Ltd
Songgang Jasonwood Furniture Factory
Sunforce Furniture (Hui-Yang) Co., Ltd
Sun Fung Wooden Factory
Sun Fung Co.
Stupendous International Co., Ltd
Superwood Co. Ltd
Taicang Sunrise Wood Industry, Co., Ltd
Taicang Sunrise Wood Industry Co., Ltd
Taicang Fairmont Designs Furniture Co., Ltd
Tradewinds Furniture Ltd
Tradewinds Furniture Ltd. (successor-in-interest to Nanhai Jiantai Woodwork Co.)
Tube-Smith Enterprise (Haimen) Co., Ltd
Tube-Smith Enterprise (Zhangzhou) Co., Ltd
Wanvog Furniture (Kunshan) Co., Ltd
Weimei Furniture Co., Ltd
Wuxi Yushea Furniture Co., Ltd
Xiamen Yongquan Sci-Tech Development Co., Ltd
Xilinmen Group Co. Ltd
Yeh Brothers World Trade Inc
Yihua Lifestyle Technology Co., Ltd
Yihua Timber Industry Co., Ltd
Yihua Timber Industry Co., Ltd. (a.k.a. Guangdong Yihua Timber Industry Co., Ltd.)
Zhangjiagang Daye Hotel Furniture Co. Ltd
Zhangzhou Guohui Industrial & Trade Co. Ltd
Zhejiang Tianyi Scientific & Educational Equipment Co., Ltd
Zhong Shan Fullwin Furniture Co., Ltd
Zhongshan Fookyik Furniture Co., Ltd
Zhongshan Golden King Furniture Industrial Co., Ltd
Zhoushan For-Strong Wood Co., Ltd
Countervailing Duty Proceedings
ARGENTINA: Biodiesel C-357-821 | 8/28/17-12/31/18
Aceitera General Deheza S.A
Bio Nogoya S.A
Bunge Argentina S.A
Cargill S.A.C.I
COFCO Argentina S.A
Cámara Argentina de Biocombustibles
Explora
GEFCO Argentina
LDC Argentina S.A
Molinos Agro S.A
Noble Argentina
Oleaginosa Moreno Hermanos S.A
Patagonia Bioenergia
Renova S.A.
T6 Industrial SA (EcoFuel)
Unitec Bio S.A
Vicentin S.A.I.C
Viluco S.A
INDONESIA: Biodiesel C-560-831 | 8/28/17-12/31/18
PT. Cermerlang Energi Perkasa (CEP)
PT. Ciliandra Perkasa
PT. Musim Mas, Medan
PT. Pelita Agung Agrindustri
Wilmar International Ltd. (aka Wilmar Trading PTE Ltd.)
THE PEOPLE'S REPUBLIC OF CHINA: Hardwood Plywood Products C-570-052 | 4/25/18-12/31/18
Anhui Hoda Wood Co., Ltd
Celtic Co., Ltd
Feixian Longteng Wood Co., Ltd
Golder International Trade Co., Ltd
Huainan Mengping Import and Export Co., Ltd
Jiangsu Top Point International Co., Ltd
Jiaxing Gsunlmp. & Exp. Co., Ltd
Jiaxing Hengtong WoodCo.,Ltd
Linyi Celtic Wood Co., Ltd
Linyi City Dongfang Jinxin Economic and Trade Co., Ltd. (a/k/a Linyi City Dongfang Jinxjin Economicand Trade Co., Ltd.)
Linyi Chengen Import and Export Co., Ltd
Linyi Evergreen Wood Co., Ltd
Linyi Glary Plywood Co., Ltd
Linyi Hengsheng Wood Industry Co., Ltd
Linyi Huasheng Yongbin Wood Co., Ltd
Linyi Jiahe Wood Industry Co., Ltd
Linyi Linhai Wood Co., Ltd
Linyi Mingzhu Wood Co., Ltd
Linyi Sanfortune Wood Co., Ltd
Qingdao Good Faith Import and Export Co., Ltd
Shandong Dongfang Bayley Wood Co., Ltd
Shandong Jinluda International Trade Co., Ltd
Shandong Qishan International Trading Co., Ltd
Shandong Senmanqi Import & Export Co., Ltd
Shandong Shengdi International Trading Co., Ltd
Shanghai Brightwood Trading Co., Ltd
Shanghai Futuwood Trading Co., Ltd
Suining Pengxiang Wood Co., Ltd
Sumec International Technology Co., Ltd
Suqian Hopeway International Trade Co., Ltd
Suzhou Oriental Dragon Import and Export Co., Ltd
Vietnam Pinewood Company Limited
Win Faith Trading Limited
Xuzhou Andefu Wood Co., Ltd
Xuzhou DNT Commercial Co., Ltd
Xuzhou Jiangheng Wood Products Co., Ltd
Xuzhou Longyuan Wood Industry Co., Ltd
XuZhou PinLin International Trade Co., Ltd
Xuzhou Shengping Imp and Exp Co., Ltd
Xuzhou Timber International Trade Co., Ltd
Yishui Zelin Wood Made Co., Ltd
Zhejiang Dehua TB Import & Export Co., Ltd
THE PEOPLE'S REPUBLIC OF CHINA: Tool Chests and Cabinets C-570-057 | 9/15/18-12/31/18
Geelong Sales Co. International (HK)
Geelong Sales (Macao Commercial Offshore) Limited (also known as Geelong Sales (MCO) Limited)
Zhongshan Geelong Manufacturing Co. Ltd
Suspension Agreements
None.

⁸ The companies listed above were inadvertently omitted from the initiation notice that published on March14, 2019 (84 FR 9297).

⁹ In the March 14, 2019, notice of initiation of the administrative review of the antidumping duty order on certain cased pencils (pencils) from China covering the period 12/01/2017-11/30/2018, we inadvertently initiated an administrative review of Beijing Fila Dixon Stationery Co., Ltd. (aka Beijing Dixon Ticonderoga Stationery Co., Ltd. and Beijing Dixon Stationery Co., Ltd.) (collectively Beijing Dixon). Commerce revoked the antidumping duty order on pencils exported by Beijing Dixon on July 18, 2013. See Certain Cased Pencils from the People's Republic of China: Final Results of Antidumping Duty Administrative Review and Determination To Revoke Order In Part; 2010-2011, 78 FR 42932 (July 18, 2013), and accompanying Issues and Decision Memorandum.

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the final rule, available at http://enforcement.trade.gov/frn/2013/1304frn/2013-08227.txt, prior to submitting factual information in this segment.

Any party submitting factual information in an antidumping duty or countervailing duty proceeding must certify to the accuracy and completeness of that information.¹⁰ Parties are hereby reminded that revised certification requirements are in effect for company/government officials as well as their representatives. All segments of any antidumping duty or countervailing duty proceedings initiated on or after August 16, 2013, should use the formats for the revised certifications provided at the end of the Final Rule.¹¹ Commerce intends to reject factual submissions in any proceeding segments if the submitting party does not comply with applicable revised certification requirements.

¹⁰ See section 782(b) of the Act.

¹¹ See Certification of Factual Information To Import Administration During Antidumping and Countervailing Duty Proceedings, 78 FR 42678 (July 17, 2013) (Final Rule); see also the frequently asked questions regarding the Final Rule, available at http://enforcement.trade.gov/tlei/notices/factual_info_final_rule_FAQ_07172013.pdf.

Extension of Time Limits Regulation

Parties may request an extension of time limits before a time limit established under Part 351 expires, or as otherwise specified by the Secretary. See 19 CFR 351.302. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, Commerce may elect to specify a different time limit by which extension requests will be considered untimely for submissions which are due from multiple parties simultaneously. In such a case, Commerce will inform parties in the letter or memorandum setting forth the deadline (including a specified time) by which extension requests must be filed to be considered timely. This modification also requires that an extension request must be made in a separate, stand-alone submission, and clarifies the circumstances under which Commerce will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: March 27, 2019.
James Maeder,
Associate Deputy Assistant Secretary for Antidumping and Countervailing Duty Operations performing the duties of Deputy Assistant Secretary for Antidumping and Countervailing Duty Operations.

[FR Doc. 2019-06220 Filed 3-29-19; 8:45 am]

BILLING CODE 3510-DS-P